DEPARTMENT OF DEFENSE

Department of the Navy

Notice of Public Hearings for the Draft Environmental Impact Statement/Overseas Environmental Impact Statement for the Southern California Range Complex (Including the San Clemente Island Range Complex)

AGENCY: Department of the Navy, DoD.

ACTION: Notice.

SUMMARY: Pursuant to section 102(2)(c) of the National Environmental Policy Act (NEPA) of 1969 and the regulations implemented by the Council on Environmental Quality (40 CFR Parts 1500-1508), and Presidential Executive Order 12114, the Department of the Navy (Navy) prepared and filed with the U.S. Environmental Protection Agency on March 28, 2008, a Draft Environmental Impact Statement/Overseas Environmental Impact Statement (EIS/OEIS) for the Southern California Range Complex (including the San Clemente Island Range Complex). This Draft EIS/OEIS evaluates the potential environmental effects of current and emerging training and research, development, test, and evaluation (RDT&E) activities in the Southern California (SOCAL) Range Complex, and proposed upgrades and modernization of range complex capabilities for Navy training and testing. A Notice of Intent for this Draft EIS/OEIS was published in the Federal Register on December 21, 2006 (71 FR 76639).

The Navy will conduct three public hearings to receive oral and written comments on the Draft EIS/OEIS. Federal, State, and local agencies and interested individuals are invited to be present or represented at the public hearings. This notice announces the dates and locations for the public hearings for the Draft EIS/OEIS.

DATES AND ADDRESSES: An open house session will precede the public hearing at each of the locations listed below. Individuals will be allowed to review the information presented in the Draft EIS/OEIS and Navy representatives will be available during the open house sessions to clarify information related to the Draft EIS/OEIS. For all meetings, the open house will be held from 5 p.m. to 9:30 p.m., and the public hearing will be held from 7 p.m. to 9:30 p.m.

Public hearings will be held on the following dates and at the following locations in California:

1. April 29, 2008 at the Oceanside Civic Center Public Library, 330 North Coast Highway, Oceanside, California;

2. April 30, 2008 at the Coronado Community Center, 1845 Strand Way, Coronado, California;

3. May 1, 2008 at the Long Beach Public Library, 101 Pacific Avenue, Long Beach, California.

FOR FURTHER INFORMATION CONTACT: Naval Facilities Engineering Command Southwest, Attention: SOCAL EIS Project Manager (Code REVPO), 1220 Pacific Highway, Building 127, San Diego, California 92132-5190; phone 619-532-2803; or http://www.socalrangecomplexeis.com.

SUPPLEMENTARY INFORMATION: The mission of the SOCAL Range Complex is to serve as the principal U.S. Navy training venue in the eastern Pacific with the unique capability and capacity to support required current, emerging, and future training. As a result, the Navy proposes to implement actions within the SOCAL Range Complex to: increase training and research, development, test, and evaluation (RDT&E) operations from current levels as necessary to support the Fleet Readiness Training Plan (FRTP); accommodate mission requirements associated with force structure changes and introduction of new weapons and systems to the Fleet; and implement enhanced range complex capabilities.

The purpose of the Proposed Action is to achieve and maintain fleet readiness using the SOCAL Range Complex, while enhancing training resources through investment on the ranges. The need for the Proposed Action is to enable the Navy to meet its statutory responsibility (found in Title 10 of the United States Code, section 5062) to organize, train, equip, and maintain combat-ready naval forces and to successfully fulfill its current and future global mission of winning wars, deterring aggression, and maintaining freedom of the seas. The existing SOCAL Range Complex plays a vital part in the execution of this naval readiness mandate and has done so successfully for the last 70 years. The San Diego, California, region is home to the largest concentration of U.S. naval forces in the world, and the SOCAL Range Complex is the most capable and heavily used Navy range complex in the eastern Pacific region. The Navy's Proposed Action is a step toward ensuring the continued vitality of this essential naval training resource.

The SOCAL Range Complex consists of three primary components: ocean operating areas, military special use airspace, and San Clemente Island (SCI). The range complex is situated between Dana Point and San Diego along the California coast, and extends more than 600 nautical miles (nm) southwest into the Pacific Ocean. The SOCAL Range Complex encompasses 120,000 square nm of sea space, 113,000 square nm of designated airspace, and over 42 square nm of land area (SCI). The Navy proposes to maintain the existing established boundaries of the range complex's ocean areas and designated airspace.

Three alternatives are evaluated in this Draft EIS/OEIS, including two action alternatives (Alternatives 1 and 2) and the No-action Alternative. The No-action Alternative stands as no change from current levels of training and RDT&E usage. Alternatives 1 and 2 analyze increased tempo and frequency of training in the SOCAL Range Complex.

Alternative 1 and Alternative 2 also address proposed new types of training, as well as training associated with new types of ships, weapons, and systems that are being introduced into the Navy's fleet (e.g., The Littoral Combat Ship). Force structure changes associated with new weapons systems would include new mine countermeasures systems and also would include training and operations associated with the proposed homeporting of the aircraft carrier USS CARL VINSON at Naval Base Coronado. In addition, Alternative 2 addresses the proposed construction and use of a shallow water training range (SWTR) and shallow water minefield, as well as an increase in use of commercial air services to support training events. Alternative 2 is the Navy's preferred alternative.

The Draft EIS/OEIS has been distributed to various Federal, State, and local agencies, as well as other interested individuals and organizations. In addition, copies of the Draft EIS/OEIS are available for public review at the following libraries: San Diego Central Library, 820 “E” Street, San Diego, California; Oceanside Civic Center Public Library, 330 North Coast Highway, Oceanside, California; San Clemente Public Library, 242 Avenida Del Mar, San Clemente, California; San Pedro Regional Library, 931 South Gaffey Street, San Pedro, California; and Long Beach Public Library, 101 Pacific Avenue, Long Beach, California. Single copies of the Draft EIS/OEIS are available upon written request to: SOCAL EIS, SOCAL EIS Project Manager (Code REVPO), 1220 Pacific Highway, Building 127, San Diego, California 92132-5190. In addition, an electronic copy of the Draft EIS/OEIS is also available for public viewing or download at http://www.socalrangecomplexeis.com. The Web site also contains information about the SOCAL Range Complex and a form for submission of electronic comments.

Federal, State, and local agencies and interested parties are invited to be present or represented at the public hearings. Written comments can be submitted during the public hearings. Oral statements will be heard and transcribed by a stenographer; however, to ensure the accuracy of the record, all oral statements should be submitted in writing. All statements, both oral and written, will become part of the public record on the Draft EIS/OEIS and will be addressed in the Final EIS/OEIS. Equal weight will be given to both oral and written statements.

In the interest of available time, and to ensure that all who wish to give an oral statement have the opportunity to do so, each speaker's comments will be limited to three (3) minutes. If a long statement is to be presented, it should be summarized at the public hearing and the full text submitted in writing either at the hearing, via the project Web site, or mailed to Naval Facilities Engineering Command Southwest, Attention SOCAL EIS Project Manager (Code REVPO), 1220 Pacific Highway, Building 127, San Diego, California, 92132-5190.

All written comments must be post-marked or received by May 19, 2008, to ensure they become part of the official record. The project Web site, http://www.socalrangecomplexeis.com, provides a form for submission of electronic comments. All timely comments will be addressed in the Final EIS/OEIS.

Dated: March 27, 2008.
T.M. Cruz,
Lieutenant, Judge Advocate General's Corps, U.S. Navy, Federal Register Liaison Officer.

[FR Doc. E8-7085 Filed 4-3-08; 8:45 am]

BILLING CODE 3810-FF-P